DEPARTMENT OF ENERGY

Federal Energy Regulatory Commission

Combined Notice of Filings #1

Take notice that the Commission received the following exempt wholesale generator filings:

Docket Numbers: EG21-148-000.

Applicants: BRP Ranchtown Bess LLC.

Description: Notice of Self-Certification of Exempt Wholesale Generator Status of BRP Ranchtown Bess LLC.

Filed Date: 5/13/21.

Accession Number: 20210513-5182.

Comments Due: 5 p.m. ET 6/3/21.

Docket Numbers: EG21-149-000.

Applicants: RWE Renewables Americas, LLC.

Description: Self-Certification of EWG for Hickory Park Solar, LLC.

Filed Date: 5/19/21.

Accession Number: 20210519-5090.

Comments Due: 5 p.m. ET 6/9/21.

Docket Numbers: EG21-150-000.

Applicants: Priddy Wind Project, LLC.

Description: Notice of Self-Certification of Exempt Wholesale Generator Status of Priddy Wind Project, LLC.

Filed Date: 5/19/21.

Accession Number: 20210519-5116.

Comments Due: 5 p.m. ET 6/9/21.

Docket Numbers: EG21-151-000.

Applicants: Iron Star Wind Project, LLC.

Description: Notice of Self-Certification of Exempt Wholesale Generator Status of Iron Star Wind Project, LLC.

Filed Date: 5/19/21.

Accession Number: 20210519-5118.

Comments Due: 5 p.m. ET 6/9/21.

Take notice that the Commission received the following electric rate filings:

Docket Numbers: ER20-1237-002.

Applicants: Ameren Illinois Company.

Description: Compliance Filing of Ameren Illinois Company.

Filed Date: 5/17/21.

Accession Number: 20210517-5259.

Comments Due: 5 p.m. ET 6/7/21.

Docket Numbers: ER20-2316-002.

Applicants: Hillcrest Solar I, LLC.

Description: Notice of Change in Status of Hillcrest Solar I, LLC.

Filed Date: 5/18/21.

Accession Number: 20210518-5183.

Comments Due: 5 p.m. ET 6/8/21.

Docket Numbers: ER21-1910-000.

Applicants: California Independent System Operator Corporation.

Description: § 205(d) Rate Filing: 2021-05-14 Certificate of Concurrence—Yellow Pine to be effective 4/30/2021.

Filed Date: 5/14/21.

Accession Number: 20210514-5118.

Comments Due: 5 p.m. ET 6/4/21.

Docket Numbers: ER21-1944-000.

Applicants: NTE Ohio, LLC.

Description: § 205(d) Rate Filing: Ohio Power Partners, LLC—Notice of Succession MBR to be effective 4/19/2021.

Filed Date: 5/19/21.

Accession Number: 20210519-5013.

Comments Due: 5 p.m. ET 6/9/21.

Docket Numbers: ER21-1945-000.

Applicants: NTE Ohio, LLC.

Description: § 205(d) Rate Filing: Ohio Power Partners, LLC—Notice of Succession Reactive Rate Schedules to be effective 4/19/2021.

Filed Date: 5/19/21.

Accession Number: 20210519-5024.

Comments Due: 5 p.m. ET 6/9/21.

Docket Numbers: ER21-1946-000.

Applicants: Southwest Power Pool, Inc.

Description: § 205(d) Rate Filing: Revisions to Update Definitions in the Western Energy Imbalance Service Tariff to be effective 7/19/2021.

Filed Date: 5/19/21.

Accession Number: 20210519-5036.

Comments Due: 5 p.m. ET 6/9/21.

Docket Numbers: ER21-1947-000.

Applicants: NedPower Mount Storm LLC.

Description: § 205(d) Rate Filing: Market-Based Rate Tariff to be effective 5/20/2021.

Filed Date: 5/19/21.

Accession Number: 20210519-5084.

Comments Due: 5 p.m. ET 6/9/21.

Docket Numbers: ER21-1948-000.

Applicants: Alabama Power Company.

Description: § 205(d) Rate Filing: Washington County Solar Amended and Restated LGIA Filing to be effective 5/6/2021.

Filed Date: 5/19/21.

Accession Number: 20210519-5106.

Comments Due: 5 p.m. ET 6/9/21.

Docket Numbers: ER21-1949-000.

Applicants: Virginia Electric and Power Company, PJM Interconnection, L.L.C.

Description: § 205(d) Rate Filing: VEPCO submits Interconnection Agreement, SA No. 3453 with Duke Energy to be effective 5/19/2021.

Filed Date: 5/19/21.

Accession Number: 20210519-5107.

Comments Due: 5 p.m. ET 6/9/21.

Docket Numbers: ER21-1950-000.

Applicants: Alabama Power Company.

Description: § 205(d) Rate Filing: Origis Holdings USA Subco (Villa Rica I Storage) LGIA Filing to be effective 5/7/2021.

Filed Date: 5/19/21.

Accession Number: 20210519-5108.

Comments Due: 5 p.m. ET 6/9/21.

Docket Numbers: ER21-1951-000.

Applicants: Alabama Power Company.

Description: § 205(d) Rate Filing: Origis Holdings USA Subco (Villa Rica II Storage) LGIA Filing to be effective 5/7/2021.

Filed Date: 5/19/21.

Accession Number: 20210519-5110.

Comments Due: 5 p.m. ET 6/9/21.

Docket Numbers: ER21-1952-000.

Applicants: PJM Interconnection, L.L.C.

Description: § 205(d) Rate Filing: Amendment to ISA, Service Agreement No. 5258; Queue No. AC1-085 to be effective 1/7/2019.

Filed Date: 5/19/21.

Accession Number: 20210519-5145.

Comments Due: 5 p.m. ET 6/9/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 19, 2021.
Debbie-Anne A. Reese,
Deputy Secretary.

[FR Doc. 2021-11019 Filed 5-24-21; 8:45 am]

BILLING CODE 6717-01-P